DEPARTMENT OF THE INTERIOR

National Park Service

[NPS-WASO-NRNHL-DTS #25358; PPWOCRADI0, PCU00RP14.R50000]

National Register of Historic Places; Notification of Pending Nominations and Related Actions

AGENCY: National Park Service, Interior.

ACTION: Notice.

SUMMARY: The National Park Service is soliciting comments on the significance of properties nominated before March 31, 2018, for listing or related actions in the National Register of Historic Places.

DATES: Comments should be submitted by May 3, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 31, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IOWA

Greene County

St. Columbkille Catholic Church, 805 Head St., Churdan, SG100002398

Story County

Ames Main Street Historic District, Roughly 100-400 blks. of Main & 5th Sts. with cross streets of Burnett, Kellogg, Douglas & Duff Sts., Ames, SG100002399

PENNSYLVANIA

Allegheny County

Wilkinsburg Historic District, Roughly bounded by North, E Swissvale, Center & Rebecca Aves., Stoner Way & MLK Jr. E Busway, Wilkinsburg Borough, SG100002401

Erie County

Lawrence Park Historic District, Roughly bounded by East Lake Rd., Lawrence Pkwy., Bell St. & Smithson Ave., Lawrence Park Township, SG100002402

WASHINGTON

Ferry County

Ferry County Courthouse, 350 E Delaware Ave., Republic, SG100002404

Grays Harbor County

Hulbert, Edward & Laura, House, 807 N M St., Aberdeen, SG100002405

King County

Century 21—Washington State Coliseum, 305 Harrison St., Seattle, SG100002406

Mount Zion Baptist Church, 1634 19th Ave., Seattle, SG100002407

Washington Athletic Club, 1325 Sixth Ave., Seattle, SG100002408

Pacific County

Shogren Cottage, 22107 Pacific Way, Ocean Park, SG100002409

WISCONSIN

Crawford County

St. Germain dit Gauthier House, 419 5th St., Prairie du Chien, SG100002411

Nominations submitted by Federal Preservation Officers:

The State Historic Preservation Officer reviewed the following nominations and responded to the Federal Preservation Officer within 45 days of receipt of the nominations and supports listing the properties in the National Register of Historic Places.

ALASKA

Denali Borough

Mount McKinley National Park Headquarters District (Boundary Increase), Mi. 3.1 Denali Park Rd., Denali National Park and Preserve, BC100002397

NEW HAMPSHIRE

Coos County

Fabyan Guard Station, .7 mi. N of jct. of NH 302 & Cherry Mountain Rd., Carroll, SG100002400

PENNSYLVANIA

Warren County

Cornplanter Grant, Address Restricted, Elk Township vicinity, SG100002403

Authority: Section 60.13 of 36 CFR part 60.

Dated: April 2, 2018.
J. Paul Loether,
Chief, National Register of Historic Places/National Historic Landmarks Program and Keeper, National Register of Historic Places.

[FR Doc. 2018-08104 Filed 4-17-18; 8:45 am]

BILLING CODE 4312-52-P